DEPARTMENT OF COMMERCE

National Oceanic and Atmospheric Administration

RIN 0648-XX86

Endangered and Threatened Species; Take of Anadromous Fish

AGENCY: National Marine Fisheries Service (NMFS), National Oceanic and Atmospheric Administration (NOAA), Commerce.

ACTION: Applications for one new scientific research permits.

SUMMARY: Notice is hereby given that NMFS has received one scientific research permit application requests relating to Pacific salmon. The proposed research is intended to increase knowledge of species listed under the Endangered Species Act (ESA) and to help guide management and conservation efforts. The application may be viewed online at: https://apps.nmfs.noaa.gov/preview/preview_open_for_comment.cfm

DATES: Comments or requests for a public hearing on the applications must be received at the appropriate address or fax number (see ADDRESSES) no later than 5 p.m. Pacific standard time on August 30, 2010.

ADDRESSES: Written comments on the application should be sent to the Protected Resources Division, NMFS, 1201 NE Lloyd Blvd., Suite 1100, Portland, OR 97232-1274. Comments may also be sent via fax to 503-230-5441 or by e-mail to nmfs.nwr.apps@noaa.gov.

FOR FURTHER INFORMATION CONTACT: Garth Griffin, Portland, OR (ph.: 503-231-2005, Fax: 503-230-5441, e-mail: garth.griffin@noaa.gov. Permit application instructions are available from the address above, or online at apps.nmfs.noaa.gov.

SUPPLEMENTARY INFORMATION:

Species Covered in This Notice

The following listed species are covered in this notice:

Chinook salmon (Oncorhynchus tshawytscha): threatened Puget Sound (PS).

Steelhead (O. mykiss): threatened PS.

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1568-3M

The Northwest Fisheries Science Center (NWFSC) is seeking to modify Permit 1568-2M, which they currently hold and which would be in effect until December 31, 2011. The current permit authorizes the NWFSC to take juvenile PS Chinook salmon and steelhead while conducting research designed to provide information on their basic life histories, ecology, and genetic compositions in the Snohomish River estuary and three of its major distributary sloughs (Ebey, Union and Steamboat) in northwest Washington State. The research is designed to (1) characterize the ecology of existing Chinook salmon populations and life history types in the Snohomish River estuary, and (2) evaluate how effectively habitat protection and restoration actions in the estuary help Chinook salmon populations in the Snohomish River basin. The information gathered by this research would benefit the fish by helping recovery planning in the Snohomish River estuary and other estuaries of the Puget Sound. The modification would allow the NWFSC to increase the number of fish taken due to an increase in sampling effort. The increase in effort consists of adding sites in the estuary and increasing the number of sampling days. The NWFSC is seeking to capture fish (using fyke nets and beach seines); anesthetize them; measure them, weigh them, check them for external marks and coded wire tags; and release them. A portion of the captured fish would be killed for full necropsy. A small portion of the captured fish may be unintentionally killed; however accidental mortalities would be used in place of sacrificed fish whenever possible.

This notice is provided pursuant to section 10(a) of the ESA. NMFS will evaluate the applications, associated documents, and comments submitted to determine whether the applications meet the requirements of section 10(a) of the ESA and Federal regulations. The final permit decisions will not be made until after the end of the 30-day comment period. NMFS will publish notice of its final action in the Federal Register.

Dated: July 23, 2010.
Angela Somma,
Chief, Endangered Species Division, Office of Protected Resources, National Marine Fisheries Service.

[FR Doc. 2010-18667 Filed 7-28-10; 8:45 am]

BILLING CODE 3510-22-S